DEPARTMENT OF HEALTH AND HUMAN SERVICES

Agency for Healthcare Research and Quality

General Testing of the CAHPS Hospital Survey (HCAHPS®)

AGENCY: Agency for Healthcare Research and Quality (AHRQ), DHHS.

ACTION: Notice of request.

SUMMARY: The Agency for Healthcare Research and Quality (AHRQ) is providing the opportunity for hospitals, vendors, and other interested parties to voluntarily test the 27-item Hospital CAHPS (HCAHPS®) instrument suggested by the National Quality Forum's Review Committee. The purpose of this project is to provide another opportunity to the hospital industry to use the revised draft of the HCAHPS® instrument with the option to add items to the instrument, if desired. It should be noted that the HCAHPS® instrument may undergo further refinement prior to finalization for the national implementation effort as a result of the National Quality Forum (NQF) Consensus process. In effect, this project provides an occasion to test items that survey vendors, hospitals, and others wish to add to the HCAHPS® instrument and to evaluate the impact of integrating HCAHPS into the instruments currently being used, as well as to try out and evaluate the methods of data collection prior to national implementation of HCAHPS®.

After permission to use the instrument is granted by AHRQ, a site or sites may field the instrument until the start of the “dry run” of the survey, which is expected in the Summer/Fall of 2005. As part of the dry run, hospitals and vendors will begin collecting HCAHPS data and transmitting it to the Centers for Medicare & Medicaid Services (CMS), but it will not be publicly reported.

For more information about this project or to download an application for authorization, please visit the CAHPS User Network Web site at http://www.cahps-sun.org.

DATES: Please submit requests on or before June 8, 2005.

ADDRESSES: Requests for permission to use the suggested 27-item HCAHPS® instrument, to add items, and field test the instrument may be submitted either in electronic format or a via facsimile communication. Applications can be sent in letter form, preferably with an electronic file on a 3½ inch floppy disk as a standard word processing format or as an e-mail with an attachment. Responses should be submitted to: Marybeth Farquhar, RN, MSN, Agency for Healthcare Research and Quality, Center for Quality Improvement and Patient Safety, 540 Gaither Road, Rockville, MD 20850, E-mail: hospital-cahps@ahrq.gov.

In order to facilitate handling of submissions, please include full information about the person requesting permission for testing: (a) Name, (b) title, (c) organization, (d) mailing address, (e) telephone and fax numbers, and (f) e-mail address.

Other requested information includes: (a) List of the hospital in which HCAHPS® will be used (including city and State); (b) sample size for each hospital; (c) intended mode of administration; (d) length of time after discharge the initial contact with the patient will be made; (e) name of vendor (if any) that will be administering the HCAHPS® survey; (f) proposed dates for fielding; (g) whether items will be added to the HCAHPS® survey and how many; and, (h) a copy of the proposed questionnaire (Additional Items should be placed following HCAHPS question 22, and before the “About You” section of the questionnaire). Electronic requests are encouraged.

To help in the evaluation of the suggested 27-item version of HCAHPS®, AHRQ and CMS are asking participants to submit a brief summary of their experience with administering the HCAHPS® survey, including sampling and survey data collection procedures. An analysis of the psychometrics of the instrument should also be provided.

FOR FURTHER INFORMATION CONTACT: Marybeth Farquhar, Center for Quality Improvement and Patient Safety, Agency for Healthcare Research and Quality, 540 Gaither Road, Rockville, MD 20850; Phone: (301) 427-1317; Fax: (301) 427-1341; E-mail: mfarquha@ahrq.gov.

SUPPLEMENTARY INFORMATION:

Background

The Agency for Healthcare Research and Quality (AHRQ) has been a leading supporter of the development of instruments for measuring patient experiences within the healthcare system of the United States. As the research partner of the Centers for Medicare & Medicaid Services (CMS), AHRQ is charged with the development of a hospital patient experience of care instrument as well as the development of reporting strategies to maximize the utility of the survey results.

The mutual goal of AHRQ and CMS is to develop a standardized instrument for use in the public reporting of patients' hospital experiences that is reliable and valid, freely accessible, and that will make comparative non-identifiable information on patients' perspectives on their hospital care widely available. While there are many survey tools available to hospitals, there is currently no nationally used or universally accepted survey instrument that allows comparisons across all hospitals. In response to, and at the request of CMS, AHRQ under the CAHPS® II Cooperative Agreement with three Grantee organizations developed an initial instrument with input from the various stakeholders in the industry. The initial draft of the HCAHPS® instrument was tested as part of a CMS three-State pilot by hospitals in Arizona, Maryland, and New York. Based on an analysis of the resulting data, the instrument was revised and shortened. Additional testing of the shortened instrument was completed and AHRQ presented its recommendations to CMS in November 2004. In December, CMS submitted the HCAHPS instrument to the National Quality Forum (NQF) to undergo the formal consensus process required for endorsement. The committee that reviewed the HCAHPS survey and supporting materials recommended the addition of two items to the survey. The survey then went out for comment by the NQF membership and the public. The membership and board vote on HCAHPS endorsement is currently proceeding.

Once the HCAHSP® survey is finalized, it will be posted on the AHRQ and CMS websites for use by interested individuals and organizations. Plans have been made to make the HCAHPS instrument available to the Hospital Quality Alliance, which is a public/private partnership that includes the major hospital associations, government, consumer groups, measurement and accrediting bodies, and other stakeholders interested in reporting on hospital quality. In the first phase of the partnership (which has already begun), hospitals are voluntarily reporting the results of their performance on ten clinical quality measures for three medical conditions: acute myocardial infarction, heart failure, and pneumonia. HCAHPS® reporting will comprise an additional and differently focused phase of quality of care measurement. For more information or to participate in the Quality Initiative, please visit http://www.aha.org under “Quality and Patient Safety, Quality Initiative,” or at http://www.fah.org, under “Issue/Advisories,” or at http://www.aamc.org by going to “Government Affairs,” “Teaching Hospitals” and then “Quality.”

Dated: April 27, 2005.
Carolyn M. Clancy,
Director.

[FR Doc. 05-9179 Filed 5-6-05; 8:45 am]

BILLING CODE 4160-90-M